DEPARTMENT OF TRANSPORTATION

Federal Aviation Administration

14 CFR Part 71

[Docket No. FAA-2021-0245; Airspace Docket No. 21-AAL-8]

RIN 2120-AA66

Proposed Amendment to Federal Airways V-436, J-125, and Establishment of United States Area Navigation Route T-399 in the Vicinity of Clear, AK

AGENCY: Federal Aviation Administration (FAA), DOT.

ACTION: Notice of proposed rulemaking (NPRM).

SUMMARY: This action proposes to amend Alaskan Very High Frequency Omnidirectional Range (VOR) Federal airway V-436, jet route J-125, and to establish United States Area Navigation (RNAV) route T-399 in central Alaska. The airway actions are necessary due to the proposed amendment of restricted area R-2206 and proposed establishment of new restricted areas at Clear, AK. The FAA published a proposal to amend R-2206 and establish new restricted areas to protect aircraft operating at or in the vicinity of Clear Airport (PACL), AK, from hazardous High-Intensity Radiated Field (HIRF) associated with the Missile Defense Agency's (MDA) Long Range Discrimination Radar (LRDR) at Clear Air Force Station (Clear AFS).

DATES: Comments must be received on or before May 20, 2021.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2021-0245; Airspace Docket No. 21-AAL-8 at the beginning of your comments. You may also submit comments through the internet at https://www.regulations.gov.

FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Christopher McMullin, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System (NAS).

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-0245; Airspace Docket No. 21-AAL-8) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2021-0245; Airspace Docket No. 21-AAL-8.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Western Service Center, Federal Aviation Administration, 2200 South 216th St., Des Moines, WA 98198.

Availability and Summary of Documents for Incorporation by Reference

This document proposes to amend FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

Background

The FAA published a NPRM (Docket No. FAA-2020-0755) in the Federal Register (86 FR 11194; February 24, 2021) proposing to rename the established restricted area R-2206 to R-2206A and establish six new restricted areas, including R-2206B, R-2206C, R-2206D, R-2206E, R-2206F, and R-2206G over PACL in Clear, AK. The United States Air Force (USAF) on behalf of MDA requested this action to protect aircraft operating at or in the vicinity of PACL from hazardous HIRF produced by the LRDR at Clear AFS. Specifically, the proposed establishment of restricted areas R-2206C and R-2206G in Clear, Alaska would impact IFR routes between Anchorage and Fairbanks, AK, including jet route J-125, and Alaskan VOR Federal airway V-436.¹ The FAA's proposal to establish R-2206C and R-2206G up to 32,000 feet MSL would impede on the current airway structure, forcing operators to travel directly through the restricted areas. In this NPRM, the FAA proposes to amend these two airways and proposes to establish United States RNAV route T-399 to provide an alternate route around the proposed new restricted areas.² Potential alternate routes for portions of V-436 and J-125 that would be deleted have been identified. The alternate routes for V-436 are based on baseline routes from Anchorage to Nenana and from Anchorage to Deadhorse, and the alternate routes for J-125 are based on a baseline route from Anchorage to Deadhorse.

¹ A graphic depiction showing the proposed restricted areas with the current ATS route overlays has been uploaded to the docket for this rulemaking.

² The FAA notes that the NPRM for the proposed expansion of restricted airspace at Clear, Alaska to support the LRDR (86 FR at 11197) indicated that RNAV Route Q-41 would also be impacted; however, FAA has since determined that this route would not be impacted by the restricted airspace proposal.

The Proposal

The FAA is proposing an amendment to 14 CFR part 71 to amend Alaskan VOR Federal airway V-436, and Jet Route J-125, as well as establish RNAV route T-399. The proposed expansion of restricted airspace in Clear, AK, if finalized as proposed, would make this action necessary. See 86 FR 11194 for restricted airspace proposal. The changes proposed in this action are outlined below.

V-436: Between Anchorage and Fairbanks, Alaskan VOR Federal Airway V-436 transects airspace with typical assigned altitudes from 10,000 feet MSL up to 18,000 feet MSL overlying the existing R-2206 airspace above Clear AFS. Based on the FAA's proposal to amend R-2206 and establish new restricted areas, V-436 would pass through restricted airspace when activated. Due to precipitous terrain and navigational aid confines, the FAA therefore proposes amendments to V-436 to “bend” the airway around the proposed new restricted areas. As proposed, the segment from Talkeetna, AK, to Nenana, AK, would be replaced by segments from Talkeetna, AK, to the AILEE waypoint to Fairbanks, AK. This proposed amendment would provide a low-altitude airway that would be clear of the new restricted airspace, as proposed, and would be available to aircraft that do not meet the requirements necessary to fly the proposed T-399 and existing V-438. Segments north of Nenana, AK, would be deleted because they would be redundant with the existing T-227 north of Fairbanks, AK. The FAA also proposes to delete the segment from Nenana, AK, to Deadhorse, AK. The rest of the route would remain unchanged.

The proposed revision of V-436 would allow ground based navigation from Talkeetna VOR/Distance Measuring Equipment (DME), AK to Fairbanks VOR and Tactical Air Navigational System (VORTAC), AK. The proposed deletion of the segment of V-436 from the Talkeetna, AK, VOR/DME, to the Nenana, AK, VORTAC can be mitigated by utilizing V-480 from the Fairbanks, AK, VORTAC, to the Nenana, AK, VORTAC. Additionally, for pilots navigating to the Deadhorse, AK, VOR/DME, from the Fairbanks. AK, VORTAC, pilots may utilize V-447 to the Chandalar, AK, Non Directional Beacon (NDB), and then A-17 to the Deadhorse, AK, VOR/DME.

J-125: Jet route J-125 (FL 180 up to FL 450) currently extends from the Kodiak, AK, VOR/DME and terminates at the Nenana, AK, VORTAC. The segment of the route from the Anchorage, AK, VHF Omnidirectional Range Test (VOT), to the Nenana, AK, VORTAC is primarily used for navigation from Anchorage, AK, to Deadhorse, AK. Based on the FAA's proposal to amend R-2206 and establish new restricted areas, this segment of J-125 between Anchorage, AK, and Nenana, AK, (southwest of Fairbanks) would be partially overlapped by restricted airspace that would extend up to FL 320. Because J-115, Q-43, and Q-41 provide the same capability as J-125, with minimal increased flight distances, the FAA proposes to delete the segment between Anchorage, AK, and Nenana, AK of J-125. The rest of the route would remain unchanged.

T-399: The FAA proposes to develop an additional RNAV Route T-399 to provide RNAV equipped pilots the ability to navigate between Talkeetna, AK, and Nenana, AK. As proposed, T-399 would begin at Talkeetna, AK, and continue north along the same route followed by V-436 to the AILEE waypoint, and then extend west around the proposed new restricted areas to Nenana, AK. This would provide pilots a more direct route to avoid the proposed new restricted areas.

Alaskan VOR Federal airways, Jet Routes, and RNAV routes are published in paragraphs 6010(b), 2004, and 6011, of FAA Order 7400.11E, dated July 21, 2020, and effective September 15, 2020, which is incorporated by reference in 14 CFR 71.1. The ATS routes listed in this document would be subsequently published in the Order.

FAA Order 7400.11, Airspace Designations and Reporting Points, is published yearly and effective on September 15th.

Regulatory Notices and Analyses

The FAA has determined that this proposed regulation only involves an established body of technical regulations for which frequent and routine amendments are necessary to keep them operationally current. It, therefore: (1) Is not a “significant regulatory action” under Executive Order 12866; (2) is not “significant” as defined in Department of Transportation (DOT) Regulatory Policies and Procedures; and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6010(b) Alaskan VOR Federal Airways.

* * *

V-436 [Amended]

From Anchorage, AK, via INT Anchorage 335° (T) and Talkeetna, AK, 195° (T) radials; Talkeetna; Talkeetna 011° (T) and Fairbanks, AK, 210° (T) radials; Fairbanks.

* * * * *

Paragraph 2004 Jet Routes.

* * * * *

J-125 [Amended]

From Kodiak, AK, to Anchorage, AK.

* * * * *

Paragraph 6011 United States Area Navigation Routes.

* * *

T-399 TKA TALKEETNA, AK to NENANA, AK [New]
TALKEETNA, AK (TKA) | VOR/DME | (Lat. 62°17′54.16″ N, long. 150°06′18.90″ W)
AILEE, AK | WP | (Lat. 63°36′00.04″ N, long. 149°32′23.46″ W)
PAWWW, AK | WP | (Lat. 63°58′06.62″ N, long. 149°35′19.10″ W)
SEAHK, AK | WP | (Lat. 64°22′38.93″ N, long. 149°32′37.92″ W)
NENANA, AK (ENN) | VORTAC | (Lat. 64°35′24.04″ N, long. 149°04′22.34″ W)

* * * * *

Issued in Washington, DC, on March 30, 2021.
George Gonzalez,
Acting Manager, Rules and Regulations Group.

[FR Doc. 2021-06914 Filed 4-2-21; 8:45 am]

BILLING CODE 4910-13-P